DEPARTMENT OF DEFENSE

Department of the Navy

Notice of Availability of Government-Owned Inventions; Available for Licensing

AGENCY: Department of the Navy, DOD.

ACTION: Notice.

SUMMARY: The inventions listed below are those in which the United States Government as represented by the Secretary of the Navy has an ownership interest and are made available for licensing by the Department of the Navy.

Navy Case No. 100035: U.S. Patent Application Serial No. 14/535,384 FLOATING POINT MULTIPLY-ADD-SUBTRACT IMPLEMENTATION filed 11/7/2014// Navy Case No. 300005: U.S. Patent Application Serial No. 14/549,586 A DELAMINATION AND CRACK PREVENTION LAYER FOR STRUCTURAL SANDWICH PANEL filed 11/21/2014// Navy Case No. 300083: NUWC XP-1 POLYURETHANE// Navy Case No. 101048: U.S. Patent Application Serial No. 13/361,312 DYNAMIC ACOUSTIC IMPEDANCE MATCHING DEVICE AND METHOD filed 7/27/2012//

FOR FURTHER INFORMATION CONTACT: Dr. Theresa A. Baus, Head, Technology Partnerships Office, Naval Undersea Warfare Center Division, Newport, 1176 Howell St., Newport, RI 02841-1703, telephone: 401-832-8728, email Theresa.baus@navy.mil.

(Authority: 35 U.S.C. 207, 37 CFR part 404.)

Dated: December 10, 2014.
N.A. Hagerty-Ford
Commander, Judge Advocate General's Corps, U.S. Navy, Federal Register Liaison Officer.

[FR Doc. 2014-29411 Filed 12-15-14; 8:45 am]

BILLING CODE 3810-FF-P